DEPARTMENT OF THE INTERIOR

Bureau of Land Management

[OR-958-6333-ET; GP0-0161; OR-9651]

Public Land Order No. 6876; Withdrawal of National Forest System Lands for the Ashland Resource Natural Area, the Jackson Campground Extension, and the Kanaka Campground; Oregon; Correction

AGENCY: Bureau of Land Management, Interior.

ACTION: Correction.

SUMMARY: This action corrects Public Land Order No. 6876, 56 FR 46122, published September 10, 1991, as FR Doc. 91-21627.

On page 46122, third column, paragraph 1, under T. 40 S., R. 3 W., which reads “Sec. 19, lots 2, 3, 4, and 6.” is hereby corrected to read “Sec. 19, lots 1, 2, 3, 4, and 6.”

Kenneth J. St. Mary,
Acting Chief, Branch of Realty and Records Services, Oregon/Washington.

[FR Doc. 00-7288 Filed 3-23-00; 8:45 am]

BILLING CODE 4310-33-P